DEPARTMENT OF TRANSPORTATION

Federal Aviation Administration

[Docket No. FAA-2020-0928]

Proposed Flight Standardization Board Report, The Boeing Company 737, Revision 17 and The Boeing Company 737 Airplane Flight Manual Airspeed Unreliable Non-Normal Checklist

AGENCY: Federal Aviation Administration (FAA), Department of Transportation (DOT).

ACTION: Notice of availability; request for comments.

SUMMARY: The FAA announces the availability of the draft Flight Standardization Board (FSB) Report, The Boeing Company 737, Revision 17 including an addendum describing potential refinements to The Boeing Company 737 Airplane Flight Manual (AFM) Airspeed Unreliable Non-Normal Checklist, which applies to The Boeing Company Model 737-8 and 737- 9 (737 MAX) airplanes. The FAA invites public comment.

DATES: The FAA must receive comments on these proposed documents by November 2, 2020.

ADDRESSES: You may send comments identified by docket number FAA-2020-0928 using any of the following methods:

Federal eRulemaking Portal: Go to http://www.regulations.gov. Follow the instructions for submitting comments.

Fax: 202-493-2251.

Mail: U.S. Department of Transportation (DOT), Docket Operations, M-30, West Building Ground Floor, Room W12-140, 1200 New Jersey Avenue SE, Washington, DC 20590.

Hand Delivery: Deliver to Mail address above between 9 a.m. and 5 p.m., Monday through Friday, except Federal holidays.

Privacy: DOT posts these comments, without edit, including any personal information the commenter provides, to www.regulations.gov, as described in the system of records notice (DOT/ALL- 14 FDMS), which can be reviewed at www.dot.gov/privacy.

Docket: You may examine the docket on the internet at https://www.regulations.gov by searching for and locating Docket No. FAA-2020-0928; or in person at Docket Operations between 9 a.m. and 5 p.m., Monday through Friday, except Federal holidays. The street address for Docket Operations is listed above. Comments will be available in the docket shortly after receipt.

FOR FURTHER INFORMATION CONTACT: For questions on the FSB Report, contact James F. Kline, Aircraft Evaluation Division, telephone 206-231-3950, email 9-AVS-AFS-110@faa.gov. For questions on the AFM non-normal checklist, contact Paul Bernado, Compliance and Airworthiness Division, telephone 206-231-3500, email 9-FAA-SACO-AD-Inquiry@faa.gov.

SUPPLEMENTARY INFORMATION:

Authority for This Action

Section 44701(a)(5) of title 49 of the U.S.C. requires the Administrator to promulgate regulations and minimum standards for other practices, methods, and procedures necessary for safety in air commerce and national security. Consistent with this authority, the Administrator publishes FSB Reports for use by FAA employees who approve training programs, FAA employees and designees who certify airmen, and aircraft operators and training providers, to assist them in developing their flightcrew member training, checking, and currency. Additionally, the Administrator publishes this notice consistent with this same authority.

Background

In September 2020, the FAA completed an operational evaluation of proposed operating procedures (checklists) and pilot training as a result of The Boeing Company Model 737-8 and 737-9 (737 MAX) design changes. The operational evaluation identified potential refinements to this Airplane Flight Manual (AFM) non-normal checklist Airspeed Unreliable. This AFM non-normal procedure was referenced in the NPRM Airworthiness Directives; The Boeing Company Airplanes (85 FR 47698). The FAA has posted the draft Boeing 737 FSB Report and an addendum to the Boeing 737 FSB Report, describing the potential refinements to the non-normal checklist at https://www.faa.gov/aircraft/draft_docs/fsb/.

Comments Invited

The FAA invites public comments on the draft FSB Report, The Boeing Company 737, Revision 17, including the FSB Report addendum.

Ricardo Domingo,
Executive Director, Flight Standards Service, AFX-1.

[FR Doc. 2020-22381 Filed 10-6-20; 4:15 pm]

BILLING CODE 4910-13-P